DEPARTMENT OF AGRICULTURE

Submission for OMB Review; Comment Request

November 2, 2010.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Agricultural Research Service

Title: Patent License Application.

OMB Control Number: 0518-0003.

Summary of Collection: Public Law 96-517, HR 209 (Technology Transfer Commercialization Act of 2000), and 37 CFR Part 404 requires Federal agencies to use the patent system to promote the utilization of inventions arising from Federally supported research and provide the authority to grant patent licenses. The Agricultural Research Service (ARS) oversees licensing of Federally owned inventions which must be done in accordance with terms, conditions, and procedures prescribed under 37 CFR part 404. Application information must be collected to identify the business or individual desiring the patent license along with a plan for the development and marketing of the invention and a description of the applicant's ability to fulfill the plan.

Need and Use of the Information: ARS will collect identifying information on the applicant, identifying information for the business, and a detailed description for development and/or marketing of the invention using form AD-761. The information collected is used to determine whether the applicant has both a complete and sufficient plan for developing and marketing the invention and the necessary manufacturing, marketing, technical, and financial resources to carry out the submitted plan.

Description of Respondents: Business or other for profit; Not-for-profit institutions; Individuals or households.

Number of Respondents: 75.

Frequency of Responses: Reporting: On occasion.

Total Burden Hours: 225.

Ruth Brown,
Departmental Information Collection Clearance Officer.

[FR Doc. 2010-28048 Filed 11-4-10; 8:45 am]

BILLING CODE 3410-03-P